DEPARTMENT OF TRANSPORTATION

Maritime Administration

[Docket Number: MARAD-2001-9392]

Requested Administrative Waiver of the Coastwise Trade Laws

AGENCY: Maritime Administration, Department of Transportation.

ACTION: Invitation for public comments on a requested administrative waiver of the Coastwise Trade Laws for the vessel Reality Check.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before May 16, 2001.

ADDRESSES: Comments should refer to docket number MARAD-2001-9392. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, S.W., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-Build Requirement

(1) Name of vessel and owner for which waiver is requested. Name of vessel: Reality Check. Owner: William N. Olson.

(2) Size, capacity and tonnage of vessel. According to the applicant: “The size of the sailing vessel is 39.4 feet long with a breadth of 24.9 feet and depth of 6.5 feet. Her gross tonnage is 15 with a net tonnage of 13 measured pursuant to 46 U.S.C. 14502.”

(3) Intended use for vessel, including geographic region of intended operation and trade. According to the applicant: “The intended use is to educate passengers, day and overnight sails very similar to the bare boat charters with the exception of providing a knowledgeable captain to ensure the safety and enjoyment of the experience. The geographic area intended is the Texas Coast including its waterways and tributaries and the Florida Coast including its waterways and tributaries and points in between.”

(4) Date and Place of construction and (if applicable) rebuilding. Date of construction: 1993. Place of construction: South Africa.

(5) A statement on the impact this waiver will have on other commercial passenger vessel operators. According to the applicant: “There is currently no charter boat service that offers education or overnight excursions providing a knowledgeable captain/instructor to provide the expertise and safety throughout the excursion and I see no negative impact on the existing commercial passenger vessel services available. The existing services observed are: (a) One-to four-hour excursions that provide a sightseeing boat ride. These people are looking for a simple, low cost boat ride (around $25.00 per person) and would not be interested in chartering a sailing vessel such as mine. There is no impact with these vessels or businesses. (b) There are the large private party yacht charters for large groups larger than 12 passengers, generally a small group of twelve (12) people or less would not consider chartering one of these large private party yachts due to the cost of such charter. If these people would be interested in such a private yacht charter, they would not be interested in chartering my sailing vessel. (c) Passenger and car ferries transport passengers between predetermined ports. There is no impact with these vessels or businesses. (d) Water taxis used for the same purpose as land taxis, taking passengers from one place to another. Any passengers interested in hiring my vessel for such purpose would be similar to hiring a limousine for a time period and not be interested in using the taxi service. There is no impact with these vessels or businesses. (e) Bare boat chartering does offer similar sailing vessels for people to charter, but the safety and experience is left up to the individuals chartering the boat. The passengers are required to take total control and responsibility of the charter boat. This total control and responsibility would probably be enough to discourage them from chartering a boat, and they would not use their service. Therefore, there is no impact with these charter boats or businesses.”

(6) A statement on the impact this waiver will have on U.S. shipyards. According to the applicant: “This waiver will have no impact on U.S. shipbuilders or shipyards.”

Dated: April 10, 2001.
By order of the Maritime Administrator.
Joel C. Richard,
Secretary, Maritime Administration.

[FR Doc. 01-9331 Filed 4-13-01; 8:45 am]

BILLING CODE 4910-81-P